DEPARTMENT OF DEFENSE

Office of the Secretary

[Transmittal Nos. 13-55]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-55 with attached transmittal, policy justification, and Sensitivity of Technology.

Dated: October 31, 2013.
Aaron Siegel,
Alternate OSD Federal Register Liaison Officer, Department of Defense.

Transmittal No. 13-55

Notice of Proposed Issuance of Letter of Offer Pursuant to Section 36(b)(1) of the Arms Export Control Act, as amended

(i) Prospective Purchaser: Republic of Korea

(ii) Total Estimated Value:

Major Defense Equipment* | $401 Million
Other | $3 Million
Total | $404 Million

(iii) Description and Quantity or Quantities of Articles or Services under Consideration for Purchase: procurement of 112 Patriot Anti-Tactical Missiles (ATM, which will be upgraded to the Guided Enhanced Missile-Tactical (GEM-T) configuration via Direct Commercial Sale), test equipment, spare and repair parts, personnel training, publications and technical data, U.S. Government and contractor technical and logistics support services, and other related elements of logistics support.

(iv) Military Department: Army (ZDG)

(v) Prior Related Cases, if any:

FMS case ZAA—$428 million—30 Oct 07

FMS case ZAH—$10 million—02 Jan 08

FMS case BCR—$19 million—18 Mar 10

(vi) Sales Commission, Fee, etc., Paid, Offered, or Agreed to be Paid: None

(vii) Sensitivity of Technology Contained in the Defense Article or Defense Services Proposed to be Sold: See Attached Annex

(viii) Date Report Delivered to Congress: 25 Oct 13

* as defined in Section 47(6) of the Arms Export Control Act.

POLICY JUSTIFICATION

The Republic of Korea—Patriot Anti-Tactical Missiles

The Republic of Korea (ROK) has requested a possible sale to procure 112 Patriot Anti-Tactical Missiles (ATM, which will be upgraded to the Guided Enhanced Missile-Tactical (GEM-T) configuration via a Direct Commercial Sale), test equipment, spare and repair parts, personnel training, publications and technical data, U.S. Government and contractor technical and logistics support services, and other related elements of logistics support. The estimated cost is $404 million.

This proposed sale will contribute to the foreign policy goals and national security objectives of the United States by meeting the legitimate security and defense needs of an ally and partner nation. The ROK continues to be an important force for peace, political stability, and economic progress in North East Asia. These upgraded missiles will provide the ROK with an enhanced capability to defend against ballistic missile, aircraft and cruise missile threats.

The proposed sale of ATMs (and subsequent upgrade to GEM-T) contributes to the ROK's goal to develop a more capable defense force and enhance interoperability with U.S. forces. The ROK will have no difficulty absorbing and maintaining these additional missiles in its inventory.

The proposed sale of this equipment and support will not alter the basic military balance in the region.

The principal contractor for the procurement and upgrade will be Raytheon Company in Andover, Massachusetts.

Implementation of this proposed sale will not require the permanent assignment of any U.S. Government or contractor representatives to Korea. Support teams will travel to the country on a temporary basis for logistics support.

There will be no adverse impact on U.S. defense readiness as a result of this proposed sale.

Transmittal No. 13-55

Notice of Proposed Issuance of Letter of Offer Pursuant to Section 36(b)(1) of the Arms Export Control Act, as Amended

Annex

Item No. vii

(vii) Sensitivity of Technology:

1. The Patriot Anti-Tactical Missiles (ATM) (which will be upgraded to Guided Enhanced Missile-Tactical (GEM-T)) contains classified components and critical/sensitive technology. The ATM hardware is unclassified. The ATM will continue to hold a significant technology lead over other surface-to-air missile systems in the world.

2. The ATM sensitive/critical technology is primarily in the area of design and production know-how and primarily inherent in the design, development and/or manufacturing data related to the ATM Fuze.

3. Information on vulnerability to electronic countermeasures and counter-counter measures, system performance capabilities and effectiveness, survivability and vulnerability data, non-cooperative target recognition, low observable technologies, select software/software documentation and test data are classified up to and including Secret.

4. If a technologically advanced adversary were to obtain knowledge of the specific hardware and software elements, the information could be used to develop countermeasures, which might reduce weapon system effectiveness or be used in the development of a system with similar or advanced capabilities.

5. This proposed effort is necessary in furtherance of the U.S. foreign policy and national security objectives outlined in the Policy Justification. It is believed the Republic of Korea can provide adequate protection of the technology being released.

[FR Doc. 2013-26438 Filed 11-4-13; 8:45 am]

BILLING CODE 5001-06-P